DEPARTMENT OF ENERGY

[Certification Notice—214]

Office Electricity Delivery and Energy Reliability; Notice of Filing of Self-Certification of Coal Capability Under the Powerplant and Industrial Fuel Use Act; Lea Power Partners, LLC

AGENCY: Office Electricity Delivery and Energy Reliability, DOE.

ACTION: Notice of filing.

SUMMARY: On June 25, 2007, Lea Power Partners, LLC, as the owner and operator of a new base load electric powerplant, submitted a coal capability self-certification to the Department of Energy (DOE) pursuant to section 201(d) of the Powerplant and Industrial Fuel Use Act of 1978 (FUA), as amended, and DOE regulations in 10 CFR 501.60, 61. Section 201(d) of FUA requires DOE to publish a notice of receipt of the self-certification in the Federal Register.

ADDRESSES: Copies of self-certification filings are available for public inspection, upon request, in the Office of Electricity Delivery and Energy Reliability, Room 8G-026, Forrestal Building, 1000 Independence Avenue, SW., Washington, DC 20585.

FOR FURTHER INFORMATION CONTACT: Ellen Russell at (202) 586-9624.

SUPPLEMENTARY INFORMATION: Title II of FUA, as amended (42 U.S.C. 8301 et seq.), provides that no new base load electric powerplants may be constructed or operated without the capability to use coal or another alternate fuel as a primary energy source. Pursuant to FUA section 201(d), in order to meet the requirement of coal capability, the owner or operator of such facilities proposing to use natural gas or petroleum as its primary energy source shall certify to the Secretary of Energy (Secretary) prior to construction, or prior to operation as a base load electric powerplant, that such powerplant has the capability to use coal or another alternate fuel. Such certification establishes compliance with FUA section 201(a) as of the date it is filed with the Secretary. The Secretary is required to publish a notice in the Federal Register reciting that the certification has been filed.

The following owner of a proposed new base load electric powerplant has filed a self-certification of coal-capability with DOE pursuant to FUA section 201(d) and in accordance with DOE regulations in 10 CFR 501.60, 61:

Owner: Lea Power Partners, LLC.

Capacity: 600 MW.

Plant Location: Hobbs, New Mexico.

In-Service Date: June, 2008.

Issued in Washington, DC, on June 29, 2007.
Anthony J. Como,
Director, Permitting and Siting, Office of Electricity Delivery and Energy Reliability.

[FR Doc. E7-13105 Filed 7-5-07; 8:45 am]

BILLING CODE 6450-01-P